FEDERAL TRADE COMMISSION

[File No. 102 3131]

US Search, Inc. And US Search, LLC; Analysis of Proposed Consent Order to Aid Public Comment

AGENCY: Federal Trade Commission.

ACTION: Proposed Consent Agreement.

SUMMARY: The consent agreement in this matter settles alleged violations of federal law prohibiting unfair or deceptive acts or practices or unfair methods of competition. The attached Analysis to Aid Public Comment describes both the allegations in the draft complaint and the terms of the consent order — embodied in the consent agreement — that would settle these allegations.

DATES: Comments must be received on or before October 22, 2010.

ADDRESSES: Interested parties are invited to submit written comments electronically or in paper form. Comments should refer to“US Search, Inc., File No. 101 3131” to facilitate the organization of comments. Please note that your comment — including your name and your state — will be placed on the public record of this proceeding, including on the publicly accessible FTC website, at (http://www.ftc.gov/os/publiccomments.shtm).

Because comments will be made public, they should not include any sensitive personal information, such as an individual’s Social Security Number; date of birth; driver’s license number or other state identification number, or foreign country equivalent; passport number; financial account number; or credit or debit card number. Comments also should not include any sensitive health information, such as medical records or other individually identifiable health information. In addition, comments should not include any “[t]rade secret or any commercial or financial information which is obtained from any person and which is privileged or confidential. . . .,” as provided in Section 6(f) of the FTC Act, 15 U.S.C. 46(f), and Commission Rule 4.10(a)(2), 16 CFR 4.10(a)(2). Comments containing material for which confidential treatment is requested must be filed in paper form, must be clearly labeled “Confidential,” and must comply with FTC Rule 4.9(c), 16 CFR 4.9(c).¹

¹ The comment must be accompanied by an explicit request for confidential treatment, including the factual and legal basis for the request, and must identify the specific portions of the comment to be withheld from the public record. The request will be granted or denied by the Commission’s General Counsel, consistent with applicable law and the public interest. See FTC Rule 4.9(c), 16 CFR 4.9(c).

Because paper mail addressed to the FTC is subject to delay due to heightened security screening, please consider submitting your comments in electronic form. Comments filed in electronic form should be submitted by using the following weblink: (https://ftcpublic.commentworks.com/ftc/ussearch) and following the instructions on the web-based form. To ensure that the Commission considers an electronic comment, you must file it on the web-based form at the weblink: (https://ftcpublic.commentworks.com/ftc/ussearch). If this Notice appears at (http://www.regulations.gov/search/index.jsp), you may also file an electronic comment through that website. The Commission will consider all comments that regulations.gov forwards to it. You may also visit the FTC website at (http://www.ftc.gov/) to read the Notice and the news release describing it.

A comment filed in paper form should include the “US Search, File No. 101 3131” reference both in the text and on the envelope, and should be mailed or delivered to the following address: Federal Trade Commission, Office of the Secretary, Room H-135 (Annex D), 600 Pennsylvania Avenue, NW, Washington, DC 20580. The FTC is requesting that any comment filed in paper form be sent by courier or overnight service, if possible, because U.S. postal mail in the Washington area and at the Commission is subject to delay due to heightened security precautions.

The Federal Trade Commission Act (“FTC Act”) and other laws the Commission administers permit the collection of public comments to consider and use in this proceeding as appropriate. The Commission will consider all timely and responsive public comments that it receives, whether filed in paper or electronic form. Comments received will be available to the public on the FTC website, to the extent practicable, at (http://www.ftc.gov/os/publiccomments.shtm). As a matter of discretion, the Commission makes every effort to remove home contact information for individuals from the public comments it receives before placing those comments on the FTC website. More information, including routine uses permitted by the Privacy Act, may be found in the FTC’s privacy policy, at (http://www.ftc.gov/ftc/privacy.shtm).

FOR FURTHER INFORMATION CONTACT: Anthony Rodriguez (202-326-2757), Bureau of Consumer Protection, 600 Pennsylvania Avenue, NW, Washington, D.C. 20580.

SUPPLEMENTARY INFORMATION: Pursuant to section 6(f) of the Federal Trade Commission Act, 38 Stat. 721, 15 U.S.C. 46(f), and § 2.34 the Commission Rules of Practice, 16 CFR 2.34, notice is hereby given that the above-captioned consent agreement containing a consent order to cease and desist, having been filed with and accepted, subject to final approval, by the Commission, has been placed on the public record for a period of thirty (30) days. The following Analysis to Aid Public Comment describes the terms of the consent agreement, and the allegations in the complaint. An electronic copy of the full text of the consent agreement package can be obtained from the FTC Home Page (for September 22, 2010), on the World Wide Web, at (http://www.ftc.gov/os/actions.shtm). A paper copy can be obtained from the FTC Public Reference Room, Room 130-H, 600 Pennsylvania Avenue, NW, Washington, D.C. 20580, either in person or by calling (202) 326-2222.

Public comments are invited, and may be filed with the Commission in either paper or electronic form. All comments should be filed as prescribed in the ADDRESSES section above, and must be received on or before the date specified in the DATES section.

Analysis of Agreement Containing Consent Order to Aid Public Comment

The Federal Trade Commission has accepted, subject to final approval, a consent agreement with US Search, Inc., and US Search, LLC (collectively “US Search”).

The proposed consent order has been placed on the public record for thirty (30) days for receipt of comments by interested persons. Comments received during this period will become part of the public record. After thirty (30) days, the Commission will again review the agreement and comments received, and will decide whether it should withdraw from the agreement and take appropriate action or make final the agreement’s proposed order.

US Search operates an online data broker service and sells publicly available information about consumers to other consumers through its website, (www.ussearch.com). This publicly available information includes name, age, address, phone numbers, email addresses, aliases, maiden name, death records, address history, information about friends, associates, and relatives, marriage and divorce information, bankruptcies, tax liens, civil lawsuits, criminal records, and home values. In conjunction with this service, since June 2009, US Search has offered and sold a PrivacyLock service, which purportedly allows consumers to “lock their records” on the US Search website and prevent their names from appearing on US Search’s website, in US Search’s advertisements, and in US Search’s search results. Until recently, US Search charged most consumers a $10 fee to place a PrivacyLock, and almost 5,000 consumers paid to have their information removed from the US Search site.

The complaint alleges that, in truth and in fact, the PrivacyLock service did not prevent consumers’ information from appearing on the US Search website in many instances. The complaint alleges that US Search has engaged in deceptive acts or practices, in violation of Section 5 of the FTC Act, by misrepresenting that the purchase or use of its PrivacyLock service will prevent a consumer’s name and address from appearing on US Search’s website, US Search’s advertisements, and in US Search’s search results.

The proposed consent order includes injunctive relief that enjoins US Search from misrepresenting the effectiveness of its PrivacyLock service or any other service offered to consumers that will allow consumers to remove publicly available information from US Search’s search results, websites, and advertisements. Also included in the order are redress provisions that require US Search to refund any money consumers paid for the PrivacyLock service. Under the proposed order, US Search would be required to credit consumers’ credit and debit card accounts and notify consumers via email that such credits were made.

Part I of the proposed order prohibits US Search from misrepresenting, in any manner, the effectiveness of its “PrivacyLock” service or any other service offered to consumers that will allow consumers to remove publicly available information from US Search’s search results, websites, or advertisements.

Part II of the proposed order prohibits US Search from making any representations concerning the effectiveness its “PrivacyLock” service or any other similar service offered to consumers that will allow consumers to remove publicly available information from US Search’s search results, websites, or advertisements, unless US Search discloses, clearly and prominently, any material limitations regarding such service, including but not limited to (1) any limitations on the duration of the removal; and (2) any circumstances under which information about the consumers will not be removed or will reappear.

Part III of the proposed order requires US Search to provide full refunds to any consumer who requested “PrivacyLock” and was assessed a charge for such service, by crediting the consumer’s credit or debit card used to purchase the service. US Search must also provide notice of the refund through an email message sent to affected consumers. The message must include an address and a toll-free number for consumers to use to contact US Search regarding the refund. US Search must display a notice about its refund program clearly and prominently on its website for a period of one year. Any amounts not refunded to consumers must be deposited with the U.S. Treasury as disgorgement. The proposed order further requires US Search, within one year of issuance of this order, to provide the Commission with an accounting of all refunds paid to consumers, as well as any amounts that were deposited with the U.S. Treasury as disgorgement.

Parts IV through VIII of the proposed order are reporting and compliance provisions. Part IV of the proposed order requires US Search to retain for a period of five (5) years from the last date of dissemination of any representation covered by the order all advertisements and promotional materials containing the representation; complaints and refund requests, and any responses to such requests; and all records and documents necessary to demonstrate full compliance with each provision of the proposed order.

Part V of the proposed order requires dissemination of the order now and in the future to principals, officers, directors, and managers having responsibilities relating to the subject matter of the order. Part VI ensures notification to the FTC of changes in corporate status. Part VII mandates that US Search submit an initial compliance report to the FTC and make available to the FTC subsequent reports. Part VIII is a provision “sunsetting” the order after twenty (20) years, with certain exceptions.

The purpose of the analysis is to aid public comment on the proposed order. It is not intended to constitute an official interpretation of the proposed order or to modify its terms in any way.

By direction of the Commission.

Donald S. Clark
Secretary.

[FR Doc. 2010-24224 Filed 9-27-10; 1:40 pm]

BILLING CODE 6750-01-S